DEPARTMENT OF ENERGY

Federal Energy Regulatory Commission

Combined Notice of Filings #1

Take notice that the Commission received the following electric corporate filings:

Docket Numbers: EC21-132-000.

Applicants: Minco Wind Energy III, LLC, Minco Wind III, LLC.

Description: Joint Application for Authorization Under Section 203 of the Federal Power Act of Minco Wind III, et al.

Filed Date: 9/10/21.

Accession Number: 20210910-5114.

Comment Date: 5 p.m. ET 10/1/21.

Take notice that the Commission received the following electric rate filings:

Docket Numbers: ER10-1119-006; ER10-1123-008.

Applicants: Union Electric Company, Central Illinois Public Service Company.

Description: Notice of Non-Material Change in Status of Ameren Illinois Company, et al.

Filed Date: 9/10/21.

Accession Number: 20210910-5115.

Comment Date: 5 p.m. ET 10/1/21.

Docket Numbers: ER21-2359-001.

Applicants: ITC Midwest LLC.

Description: Compliance filing: Compliance Filing of Executed RS 79 to be effective 9/5/2021.

Filed Date: 9/10/21.

Accession Number: 20210910-5047.

Comment Date: 5 p.m. ET 10/1/21.

Docket Numbers: ER21-2860-000.

Applicants: The Connecticut Light and Power Company.

Description: § 205(d) Rate Filing: Termination of Sterling Property, LLC—CL&P IA to be effective 11/8/2021.

Filed Date: 9/9/21.

Accession Number: 20210909-5142.

Comment Date: 5 p.m. ET 9/30/21.

Docket Numbers: ER21-2861-000.

Applicants: PJM Interconnection, L.L.C.

Description: § 205(d) Rate Filing: Original WMPA 6183; Queue No. AF1-005 to be effective 8/11/2021.

Filed Date: 9/10/21.

Accession Number: 20210910-5015.

Comment Date: 5 p.m. ET 10/1/21.

Docket Numbers: ER21-2862-000.

Applicants: PJM Interconnection, L.L.C.

Description: § 205(d) Rate Filing: Original ISA, Service Agreement No. 6169; Queue No. AC2-195 to be effective 8/11/2021.

Filed Date: 9/10/21.

Accession Number: 20210910-5030.

Comment Date: 5 p.m. ET 10/1/21.

Docket Numbers: ER21-2863-000.

Applicants: PJM Interconnection, L.L.C.

Description: § 205(d) Rate Filing: Original ISA No. 6163; Queue No. AD1-155 to be effective 8/11/2021.

Filed Date: 9/10/21.

Accession Number: 20210910-5033.

Comment Date: 5 p.m. ET 10/1/21.

Docket Numbers: ER21-2864-000.

Applicants: PJM Interconnection, L.L.C.

Description: § 205(d) Rate Filing: First Revised ISA, Service Agreement No. 5756; Queue No. AC1-110 to be effective 8/11/2021.

Filed Date: 9/10/21.

Accession Number: 20210910-5040.

Comment Date: 5 p.m. ET 10/1/21.

Docket Numbers: ER21-2865-000.

Applicants: PJM Interconnection, L.L.C.

Description: § 205(d) Rate Filing: Original WMPA, Service Agreement No. 6186; Queue No. AF1-003 to be effective 8/11/2021.

Filed Date: 9/10/21.

Accession Number: 20210910-5051.

Comment Date: 5 p.m. ET 10/1/21.

Docket Numbers: ER21-2866-000.

Applicants: Southern California Edison Company.

Description: § 205(d) Rate Filing: Visalia CSG LLC GIA and DSA—SA Nos. 1155-1156 to be effective 9/11/2021.

Filed Date: 9/10/21.

Accession Number: 20210910-5073.

Comment Date: 5 p.m. ET 10/1/21.

Docket Numbers: ER21-2867-000.

Applicants: Tri-State Generation and Transmission Association, Inc.

Description: § 205(d) Rate Filing: Amendment to Service Agreement No. 887 to be effective 8/27/2021.

Filed Date: 9/10/21.

Accession Number: 20210910-5081.

Comment Date: 5 p.m. ET 10/1/21.

Docket Numbers: ER21-2868-000.

Applicants: Southern California Edison Company.

Description: § 205(d) Rate Filing: Amended LGIA Mojave 3/4/5 LLC, Mojave 16/17/18, LLC—Mojave 89 SA No. 239 to be effective 11/10/2021.

Filed Date: 9/10/21.

Accession Number: 20210910-5085.

Comment Date: 5 p.m. ET 10/1/21.

Docket Numbers: ER21-2869-000.

Applicants: Southern California Edison Company.

Description: § 205(d) Rate Filing: Amended LGIA Mojave 3/4/5 LLC—Mojave 90 to be effective 11/10/2021.

Filed Date: 9/10/21.

Accession Number: 20210910-5088.

Comment Date: 5 p.m. ET 10/1/21.

Docket Numbers: ER21-2870-000.

Applicants: Pacific Gas and Electric Company.

Description: § 205(d) Rate Filing: PG&E Quail Energy SGIA (SA 496) to be effective 11/9/2021.

Filed Date: 9/10/21.

Accession Number: 20210910-5092.

Comment Date: 5 p.m. ET 10/1/21.

Docket Numbers: ER21-2871-000.

Applicants: Midcontinent Independent System Operator, Inc., Pioneer Transmission LLC.

Description: Compliance filing: Midcontinent Independent System Operator, Inc. submits tariff filing per 35: 2021-09-10_Pioneer 864 Compliance Filing to be effective 1/27/2020.

Filed Date: 9/10/21.

Accession Number: 20210910-5097.

Comment Date: 5 p.m. ET 10/1/21.

Docket Numbers: ER21-2872-000.

Applicants: Alabama Power Company.

Description: § 205(d) Rate Filing: Macon Parkway Solar Project Amended and Restated LGIA Filing to be effective 8/31/2021.

Filed Date: 9/10/21.

Accession Number: 20210910-5102.

Comment Date: 5 p.m. ET 10/1/21.

Docket Numbers: ER21-2873-000.

Applicants: Alabama Power Company.

Description: § 205(d) Rate Filing: Tri-State Solar Project Amended and Restated LGIA Filing to be effective 8/31/2021.

Filed Date: 9/10/21.

Accession Number: 20210910-5105.

Comment Date: 5 p.m. ET 10/1/21.

Docket Numbers: ER21-2874-000.

Applicants: RE Tranquillity LLC.

Description: Initial rate filing: Tranquillity Storage Shared Facilities and Co-Tenancy Agreement Filing to be effective 9/11/2021.

Filed Date: 9/10/21.

Accession Number: 20210910-5112.

Comment Date: 5 p.m. ET 10/1/21.

Docket Numbers: ER21-2875-000.

Applicants: PacifiCorp.

Description: Tariff Amendment: Termination of BPA Construction Agmt—Conversion Ross-Lex-Swift to be effective 11/29/2021.

Filed Date: 9/10/21.

Accession Number: 20210910-5113.

Comment Date: 5 p.m. ET 10/1/21.

Docket Numbers: ER21-2876-000.

Applicants: SP Tranquillity Solar Storage, LLC.

Description: Initial rate filing: Tranquillity Storage Shared Facilities and Co-Tenancy Agreement Filing to be effective 9/11/2021.

Filed Date: 9/10/21.

Accession Number: 20210910-5121.

Comment Date: 5 p.m. ET 10/1/21.

Docket Numbers: ER21-2877-000.

Applicants: PJM Interconnection, L.L.C.

Description: Compliance filing: Compliance Filing and Request for Waiver in ER21-2444, et al. to be effective N/A.

Filed Date: 9/10/21.

Accession Number: 20210910-5161.

Comment Date: 5 p.m. ET 10/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2021.
Debbie-Anne A. Reese,
Deputy Secretary.

[FR Doc. 2021-20027 Filed 9-15-21; 8:45 am]

BILLING CODE 6717-01-P